DEPARTMENT OF LABOR

Employment and Training Administration

[TA-W-82,778A]

Energizer; One Worker Reporting to the Westlake Facility Located in Marietta, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on July 25, 2013, applicable to workers from Energizer, including on-site leased workers from Adecco, Westlake, Ohio. The Department's Notice of Determination was published in the Federal Register on August 13, 2013 (78 FR 49293).

At the request of a State Workforce Official, the Department reviewed the certification for workers of the subject firm. The workers' firm is engaged in the production of batteries.

The investigation confirmed that one worker in the Marietta, Ohio facility reports to the Westlake, Ohio facility. Her total or partial separation or threat of total or partial separation is attributable to the same shift in production to a foreign country that was the basis for the original certification.

Based on these findings, the Department is amending this certification to include one worker reporting to the Westlake facility located in Marietta, Ohio.

The amended notice applicable to TA-W-82,778 is hereby issued as follows:

“All workers of Energizer, including on-site leased workers from Adecco, Westlake, Ohio (TA-W-82,778) and Energizer, One worker reporting to the Westlake facility located in Marietta, Ohio (TA-W-82,778A) who became totally or partially separated from employment on or after June 3, 2012 through July 25, 2015, and all workers in the group threatened with total or partial separation from employment on the date of certification through July 25, 2015, are eligible to apply for adjustment assistance under Chapter 2 of Title II of the Trade Act of 1974, as amended.”

Signed in Washington, DC, this 15th day of April, 2015.
Michael W. Jaffe,
Certifying Officer, Office of Trade Adjustment Assistance.

[FR Doc. 2015-09657 Filed 4-24-15; 8:45 am]

BILLING CODE 4510-FN-P